DEPARTMENT OF TRANSPORTATION

Office of the Secretary

Aviation Proceedings, Agreements Filed During the Week of May 5, 2000

The following Agreements were filed with the Department of Transportation under the provisions of 49 U.S.C. Sections 412 and 414. Answers may be filed within 21 days after the filing of the applications.

Docket Number: OST-2000-7333.

Date Filed: May 4, 2000.

Parties: Members of the International Air Transport Association.

Subject: PTC12 NMS-ME 0105 dated 18 April 2000, North Atlantic-Middle East Resolution 002L, Special Readopting/Amending Resolution, between Canada, Mexico, USA and Middle East, Intended effective date: 31 May 2000.

Docket Number: OST-2000-7334.

Date Filed: May 4, 2000.

Parties: Members of the International Air Transport Association.

Subject: PTC12 NMS-ME 0106 dated 18 April 2000, North Atlantic-Middle East Resolutions r1-r18, PTC12 NMS-ME 0110 dated 20 April 2000 (Technical Correction), PTC12 NMS-ME 0107 dated 18 April 2000, North Atlantic-Israel Resolution r19-r37, Minutes—PTC12 NMS-ME 0109 dated 20 April 2000, Tables—PTC12 NMS-ME FARES 0057 dated 20 April 2000, Intended effective date: 1 June 2000.

Andrea M. Jenkins,
Federal Register Liaison.

[FR Doc. 00-12557 Filed 5-17-00; 8:45 am]

BILLING CODE 4910-62-P